DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than August 26, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Title V Maternal and Child Health Services Block Grant to States Program: Guidance and Forms for the Title V Application/Annual Report OMB No. 0915-0172—Revision.

Abstract: HRSA is revising the Title V Maternal and Child Health Services Block Grant to States Program: Guidance and Forms for the Title V Application/Annual Report. The Guidance is used annually by the 50 states and nine jurisdictions in applying for Block Grants under Title V of the Social Security Act and in preparing the required Annual Report. In partnership with the leadership in State Title V Maternal and Child Health (MCH) programs as well as with other national MCH leaders and stakeholders, HRSA's Maternal and Child Health Bureau (MCHB) has been working over the past year to develop and refine a vision for transforming the MCH Block Grant to States Program to better meet current and future challenges facing our nation's mothers and children, including children with special health care needs (CSHCN) and their families. The proposed revisions to the Application and Annual Reporting requirements and to the data forms that are contained in the revised Guidance reflect this vision.

The aims of the MCH Block Grant to States Program transformation are threefold: (1) Reduce burden to states, (2) maintain state flexibility, and (3) improve accountability. Revisions to this edition are intended to enable the state to tell a more cohesive and comprehensive Title V story and to better reflect on the program's leadership role and its contributions to the state's public health system in building improved and expanded systems of care for the MCH population. It is recognized that the full extent of the anticipated burden reduction will be realized over time as states become more familiar with the new instructions and reporting requirements. The burden estimates presented in the table below are based on previous burden estimates and consultations with a few states on the proposed changes. HRSA plans to solicit additional information from no more than nine states to derive more accurate estimates.

Specific changes to this edition of the Title V Maternal and Child Health Services Block Grant to States Program: Guidance and Forms for the Title V Application/Annual Report include the following:

(1) Narrative reporting will be organized by six population health domains (i.e., maternal and women's health, perinatal health, child health, CSHCN, adolescent health, and life course); (2) Revised National Performance Measure (NPM) framework will be implemented with states selecting 8 of 15 NPMs for their programmatic focus; (3) State-level data for the selected NPMs will be provided by MCHB from national data sources thus reducing burden; (4) For each selected NPM, the state will establish and report only on a Structural/Process Measure (S&PM); (5) Revised instructions for the State Application/Annual Report process reflect the need for state priority needs and national MCH priority areas to drive the state's reporting on the 5-year (and ongoing) Needs Assessment findings, the selection of NPMs which target the state-identified priority needs, the development of evidence-based strategies and S&PMs for addressing the selected NPMs, and the establishment of State Performance Measures which respond to the state's identified unique needs; (6) State Application/Annual Report will include a 5-year Action Plan for addressing the identified MCH priority areas; (7) An Executive Summary will be included with each submitted Application/Annual Report; (8) A 5-year Needs Assessment Summary will be integrated into the State's Application/Annual Report and will replace the more comprehensive, standalone 5-year Needs Assessment document that the state previously submitted; (9) Health System Capacity Indicators will be eliminated; (10) Data for Health Status Indicators will be provided by the MCHB, as available, rather than collected and reported by the state; and (11) Federal and State Title V Program budget and expenditures will be reported separately by the state.

Need and Proposed Use of the Information: Each year, all states and jurisdictions are required to submit an Application/Annual Report for federal funds for their Title V MCH Services Block Grant to States Program to HRSA's MCHB (Section 505(a) of Title V of the Social Security Act). In addition, the state/jurisdictional MCH Block Grant programs are required to conduct a statewide, comprehensive Needs Assessment every 5 years. The information and instructions for the preparation and submission of this Application/Annual Report are contained in the Title V Maternal and Child Health Services Block Grant to States Program: Guidance and Forms for the Title V Application/Annual Report.

Likely Respondents: By legislation (Section 505(a) of Title V of the Social Security Act), the MCH Block Grant Application/Annual Report must be developed by, or in consultation with, the State MCH Health agency.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Burden per response (in hours) | Total burden hours
Application and Annual Report without 5-Year Needs Assessment | 59 | 1 | 59 | 123.0 | 7,257
Application and Annual Report with 5-Year Needs Assessment | 59 | 1 | 59 | 189.3 | 11,169
Average Total Annual Burden | 59 |  | 59 |  | * 8,561
* (Reflects the average of one Application/Annual Report with Needs Assessment and two Application/Annual Reports without Needs Assessment.)

In fiscal year (FY) 2016, states and jurisdictions will be submitting an application and annual report with a 5-year needs assessment for a total estimated burden of 11,169 hours. In FY 2017 and FY 2018, states and jurisdictions will be submitting an application and annual report without a 5-year needs assessment for a total estimated burden of 14,514.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: June 20, 2014.
Jackie Painter,
Acting Director, Division of Policy and Information Coordination.

[FR Doc. 2014-15051 Filed 6-26-14; 8:45 am]

BILLING CODE 4165-15-P